DEPARTMENT OF TRANSPORTATION

National Highway Traffic Safety Administration

[Docket No. NHTSA 2002-14371; Notice 2]

Cooper Tire & Rubber Company; Grant of Application for Decision of Inconsequential Noncompliance

Cooper Tire & Rubber Company (Cooper) has determined that certain Mastercraft Avenger GT brand tires in the P275/60 R15 size do not meet the labeling requirements mandated by Federal Motor Vehicle Safety Standard (FMVSS) No. 109, “New Pneumatic Tires.” Pursuant to 49 U.S.C. 30118(d) and 30120(h), Cooper has petitioned for a determination that this noncompliance is inconsequential to motor vehicle safety and has filed an appropriate report pursuant to 49 CFR Part 573, “Defect and Noncompliance Reports.” Notice of receipt of the application was published, with a 30-day comment period, on January 30, 2003, in the Federal Register (68 FR 5972). NHTSA received no comments.

The petitioner argued as follows: FMVSS No. 109(S4.3(a)) requires that one size designation be molded on the tire's sidewall, except that equivalent inch and metric size designations may be used. The correct size designation, P275/60R15, was molded on both upper sidewalls and the lower sidewall on the DOT serial number side. However, on the side opposite the DOT serial number, a number of tires were stamped with an incorrect size designation of P275/80R15 in the lower sidewall area. The noncompliant tires were produced during the 23rd and 32nd production weeks of 2002.

The incorrect size designation was removed from the mold and the correct size designation inserted; however, prior to the mold being correctly stamped, 5,706 tires were inadvertently shipped marked with the one incorrect size designation.

Cooper states that the incorrect size designation on each tire is inconsequential to safety. The incorrect marking is the series designation. In the two most prominent locations and the serial side of the tire, the series designation is correct. Additionally there is no P275/15 sized tire manufactured in an 80 series. The noncompliant tires produced from the involved mold during the aforementioned production periods comply with all other requirements of FMVSS 109.

The agency believes that the true measure of inconsequentiality to motor vehicle safety in this case is the effect of the noncompliance on the operational safety of vehicles on which these tires are mounted. The tires are certified to meet all the performance requirements of FMVSS No. 109. The agency agrees with Cooper's statement indicating that the incorrect size designation on each tire does not present a serious safety concern. Although there is an incorrect size marking in one location on the tire that refers to the tire's series, we note that the correct tire size is stamped in three other locations on the tire sidewall. The incorrectly-stated series does not constitute a safety concern, since the incorrect designation does not exist and the consumer or the tire dealer can locate the correct tire size elsewhere on the tire sidewall. Cooper has also correctly stamped the mold thus correcting the problem.

In consideration of the foregoing, NHTSA has decided that the applicant has met its burden of persuasion that the noncompliance described is inconsequential to motor vehicle safety. Accordingly, Cooper's application is granted and the applicant is exempted from providing the notification of the noncompliance as would be required by 49 U.S.C. 30118, and from remedying the noncompliance, as would be required by 49 U.S.C. 30120.

Authority: 49 U.S.C. 301118, 301120; delegations of authority at 49 CFR 1.50 and 501.8.

Issued on: October 30, 2003.
Stephen R. Kratzke,
Associate Administrator for Rulemaking.

[FR Doc. 03-27655 Filed 11-3-03; 8:45 am]

BILLING CODE 4910-59-P